DEPARTMENT OF TRANSPORTATION

Federal Aviation Administration

Notice of Availability for the Draft Written Re-Evaluation (DWR) of the Record of Decision (ROD) and Final Environmental Impact Statement (FEIS) for the Proposed Airport, Angoon, Alaska

AGENCY: Federal Aviation Administration (FAA), DOT.

ACTION: Notice of Availability (NOA) of Comment Period.

SUMMARY: In accordance with the National Environmental Policy Act of 1969 (NEPA) and Council on Environmental Quality (CEQ) regulations the FAA issues this notice to advise the public that a DWR of the ROD and FEIS for the proposed airport in Angoon has been prepared and is available for public review and comment for (see below).

DATES: The comment period opens on April 10, 2019 and closes May 10, 2019.

ADDRESSES: Copies of the DWR are available at the following locations:

1. Online at http://dot.alaska.gov/sereg/projects/angoon_airport_new/index.shtml

2. Juneau Public Library

• Downtown Branch, 292 Marine Way, Juneau, AK 99801

• Douglas Branch, 1016 3rd Street, Douglas, AK 99824

• Mendenhall Mall Branch, 9109 Mendenhall Mall Rd, Juneau, AK 99801

3. Angoon Community Association Building, 315 Heendae Rd, Angoon, AK 99820

4. Angoon City Government Office, 700 Aan Deina Aat Street, Angoon, AK 99820

5. The FAA, Airports Division. Please contact Venus Larson at (907) 271-3813 for a copy

You may submit comments or request more information by any of the following methods:

1. Email: katherine.wood@hdrinc.com;

2. U.S. Mail: David Pyeatt, PE, Project Manager, DOT&PF Southcoast Region, P.O. Box 112506, Juneau, AK 99811-2506.

3. In person: To drop off comments, contact David Pyeatt, PE at (907) 465-4490.

Comments from interested parties on the DWR are encouraged during the 30-day period following the date of this NOA.

The FAA encourages all interested parties to provide comments concerning the scope and content of the DWR. Comments should be as specific as possible and address the analysis contained in the DWR. Reviewers may use quotations and other specific references to the text of the DWR to make the agency aware of the commenter's concerns. This commenting procedure is intended to ensure that substantive comments and concerns are made available to the FAA in a timely manner so that the FAA has an opportunity to address them.

FOR FURTHER INFORMATION CONTACT: Venus Larson, AAL-624, Federal Aviation Administration, Alaskan Region, Airports Division, 222 W 7th Avenue Box #14, Anchorage, AK 99513. Ms. Venus Larson may be contacted during business hours at (907) 271-3813 (telephone) and (907) 271-2851 (fax), or by email at Venus.Larson@faa.gov.

SUPPLEMENTARY INFORMATION: http://dot.alaska.gov/sereg/projects/angoon_airport_new/index.shtml.

Issued in Anchorage, Alaska.
Kristi A. Warden,
Acting Director, Airports Division, AAL-600.

[FR Doc. 2019-06887 Filed 4-9-19; 8:45 am]

BILLING CODE 4910-13-P